DEPARTMENT OF THE TREASURY

Internal Revenue Service

26 CFR Part 1

[TD 9993]

RIN 1545-BQ64

Transfer of Certain Credits; Correction

AGENCY: Internal Revenue Service (IRS), Treasury.

ACTION: Final rule; correction and correcting amendment.

SUMMARY: This document includes corrections to the final regulations (Treasury Decision 9993) published in the Federal Register on Tuesday, April 30, 2024. Treasury Decision 9993 contains final regulations concerning the election under the Inflation Reduction Act of 2022 to transfer certain tax credits.

DATES: These corrections are effective on August 22, 2024 and for dates of applicability, see §§ 1.6418-1(r), 1.6418-2(g), 1.6418-3(f), 1.6418-4(d), and 1.6418-5(j).

FOR FURTHER INFORMATION CONTACT: Concerning the regulations, James Holmes at (202) 317-5114 and Jeremy Milton at (202) 317-5665 (not toll-free numbers).

SUPPLEMENTARY INFORMATION:

Background

The final regulations (TD 9993) subject to these corrections are issued under section 6418 of the Internal Revenue Code.

Corrections of Publication

Accordingly, FR Doc. 2024-08926 (TD 9993), appearing on page 34770 in the Federal Register of Tuesday, April 30, 2024, is corrected as follows:

1. On page 34772, in the first column, in the fourth line from the top of the first partial paragraph, the language “apples” is corrected to read “applies”.

2. On page 34774, in the first column, the seventeenth line from the top of the second full paragraph, is corrected to read “the IRS confirm that the proposed”.

3. On page 34781, in the first column, the fourth line from the top of the second partial paragraph, is corrected to read “that referred to the “average transfer”.

4. On page 34793, in the third column, the second line from the top of the second full paragraph, is corrected to read “defined an excessive credit transfer”.

5. On page 34798, in the second column, in the second line from the bottom of the third full paragraph, the language “credit” is corrected to read “credits”.

6. On page 34799, in the third column, the first line of the first full paragraph is corrected to read, “The Treasury Department and the IRS solicited”.

List of Subjects in 26 CFR Part 1

Income taxes, Reporting and recordkeeping requirements.

Correction to the Regulations

Accordingly, 26 CFR part 1 is corrected by making the following correcting amendments:

PART 1—INCOME TAXES

Paragraph 1. The authority citation for part 1 continues to read in part as follows:

Authority: 26 U.S.C. 7805 * * *

§ 1.6418-1 [Corrected]

Par. 2. Section 1.6418-1 is amended in paragraph (b) by removing the language “§ 1.6417-1(b)” and adding the language “§ 1.6417-1(c)” in its place.

Par. 3. Section 1.6418-2 is amended:

1. In the introductory text of paragraph (b)(4)(iii), by removing the language “((b)(6)(i)” and adding the language “(b)(6)(i)” in its place.

2. By revising the sixth sentence of paragraph (b)(4)(iii)(C).

3. In paragraph (b)(5)(ii)(C) by removing the language “707(b)(1))” and adding the language “707(b)(1)” in its place.

The revision reads as follows:

§ 1.6418-2 Rules for making transfer elections

* * * * *

(b) * * *

(4) * * *

(iii) * * *

(C) * * * As a result of the $40X decrease in the credit determined, C reduces the $20X of section 45Y credit retained by C to $0X, and reduces the amount of section 45Y credit transferred to D, E, and F to $30X, $24X, and $6X, respectively (their respective pro rata shares of the reduced amount). * * *

* * * * *

Par. 4. Section 1.6418-3 is amended:

1. In paragraph (d)(2), by removing the language “specific” from the second sentence and adding “specified” in its place.

2. Revising the second sentence of paragraph (e)(3)(ii).

The revision reads as follows:

§ 1.6418-3 Additional rules for partnership and S corporations.

* * * * *

(e) * * *

(3) * * *

(ii) * * * Under § 1.704-1(b)(4)(ii), for an eligible credit that is not an investment tax credit and that arises from receipts of a partnership, allocations of credit are deemed to be in accordance with the partners' interests in the partnership if the credit is allocated in the same proportion as the partners' distributive shares of the receipts that give rise to the credit. * * *

* * * * *

§ 1.6418-4 [Corrected]

Par. 5. Section 1.6418-4 is amended in paragraph (c)(4), by removing the language “applicable” in the first sentence and adding the language “eligible” in its place.

§ 1.6418-5 [Corrected]

Par. 6. Section 1.6418-5 is amended:

1. In paragraph (b)(3)(ii), by removing the language “payments” in the last sentence and adding the language “payment” in its place.

2. In paragraph (d)(3)(i), by removing the language “eligible transferee” in the last sentence and adding the language “transferee taxpayer” in its place.

3. In paragraph (d)(3)(iii), by removing the language “be” in the first sentence and adding the language “been” in its place.

Oluwafunmilayo A. Taylor,
Section Chief, Publications and Regulations Section, Associate Chief Counsel, (Procedure and Administration).

[FR Doc. 2024-18576 Filed 8-21-24; 8:45 am]

BILLING CODE 4830-01-P